DEPARTMENT OF HEALTH AND HUMAN SERVICES

Administration for Children and Families

Proposed Information Collection Activity; Title IV-E Programs Quarterly Financial Report (OMB No: 0970-0205)

AGENCY: Children's Bureau, Administration on Children, Youth and Families, Administration for Children and Families, HHS.

ACTION: Request for public comment.

SUMMARY: The Administration for Children and Families (ACF) is requesting a 3-year extension of the form CB-496: Title IV-E Programs Quarterly Financial Report. This form is currently approved under the ACF Generic Clearance for Financial Reports (OMB #0970-0510, expiration 5/31/2021), and ACF is proposing to reinstate the previous OMB number under which this form had been approved (OMB # 0970-0205). There are no substantial changes requested to the form.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: Form CB-496 Parts 1-3 is a financial report submitted following the end of each fiscal quarter by each state or tribe with an approved title IV-E plan administering any of five title IV-E entitlement grant programs—Foster Care, Adoption Assistance, Guardianship Assistance, Prevention Services, or Kinship Navigator. Part 4 of form CB-496 is an annual submission associated with the Adoption Assistance program on the calculation of adoption savings under section 473(e) of the Social Security Act, along with an accounting of the amount of expenditure of any such savings. It is required from each state or tribe with an approved title IV-E plan administering the Adoption Assistance Program. There are no substantial changes to the forms, only minor changes such as to reflect a temporary change in the Federal Financial Participation rate.

Respondents: State and tribal agencies with approved title IV-E plans.

Annual Burden Estimates
Instrument | Total number of respondents | Annual number of responses per respondent | Average burden hours per response | Annual burden hours
Form CB-496 | 67 | 4 | 23 | 6,164

Estimated Total Annual Burden Hours: 6,164.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 671(a)(6), 42 U.S.C. 671(a)(7), 42 U.S.C. 673(a)(8)(B), and 42 U.S.C. 674(a) and (b).

Mary B. Jones,
ACF/OPRE Certifying Officer.

[FR Doc. 2021-05157 Filed 3-11-21; 8:45 am]

BILLING CODE 4184-25-P